DEPARTMENT OF ENERGY

Federal Energy Regulatory Commission

18 CFR Parts 375 and 390

[Docket No. RM02-10-000; Order No. 891]

Electronic Registration

Issued August 5, 2002.

AGENCY: Federal Energy Regulatory Commission, DOE.

ACTION: Final rule.

SUMMARY: The Federal Energy Regulatory Commission (Commission) is amending its regulations to establish a system of electronic registration (eRegistration) for persons and companies submitting documents to, and receiving documents from, the Commission. This system will enable the Commission to comply with paperwork elimination mandates and, combined with other rulemakings to take place in the near future, will result in cost savings to the Commission and the public while enhancing the accessibility of information relating to Commission programs and proceedings. The eRegistration system will become mandatory on January 7, 2003, but will be operated on a voluntary basis beginning in late August 2002.

EFFECTIVE DATE: The rule will become effective on January 7, 2003.

FOR FURTHER INFORMATION CONTACT: Christopher Cook (information technology advisor), Office of the Chief Information Officer, Federal Energy Regulatory Commission, 888 First Street, NE., Washington, DC 20426, (202) 208-1131.

Wilbur Miller (legal advisor), Office of General Counsel, Federal Energy Regulatory Commission, 888 First Street, NE., Washington, DC 20426, (202) 208-0953.

SUPPLEMENTARY INFORMATION:

Before Commissioners: Pat Wood, III, Chairman; William L. Massey, Linda Breathitt, and Nora Mead Brownell.

I. Introduction

1. The Federal Energy Regulatory Commission (Commission) is amending its regulations to establish a system of electronic registration for persons and companies wishing to submit documents to or receive documents from the Commission (collectively customers).

II. Background

2. This order initiates a series of measures that will largely eliminate the transmission of paper documents between the Commission and its customers. Collectively, these measures will ensure the Commission's compliance with the Government Paperwork Elimination Act;¹ result in cost savings, such as elimination of mailing costs and courier services, to the Commission and its customers; facilitate the Commission's management of information about the persons and entities that do business with it; and make information submitted to and issued by the Commission available more promptly and in more accessible formats.

¹ 44 U.S.C. 3504 (2002).

3. This measure follows several initiatives undertaken by the Commission to begin the transition to an electronic environment. On May 26, 1999, the Commission revised its rules to permit parties to Commission proceedings to serve documents upon one another electronically. Electronic Service of Documents, 64 FR 31493, FERC Stats. & Regs., Regulations Preambles ¶ 31,074 (June 11, 1999). On September 14, 2000, the Commission revised its rules to permit participants in Commission proceedings to begin, on a voluntary basis, filing submissions via the Internet (eFiling). Electronic Filing of Documents, 65 FR 57088, FERC Stats. & Regs., Regulations Preambles ¶ 31,107 (Sept. 21, 2000). At first, the Commission applied this initiative only to a limited range of document types, but has gradually permitted other types of submissions to be made electronically. See www.ferc.gov/documents/makeanelectronicfiling/doorbell.htm. In addition, electronic submission and dissemination of structured data, including FERC Forms 1, 2, 6, and 423, are possible through the Commission's web page.

4. This order will resolve difficulties the Commission has encountered in updating various lists that it maintains of customers to whom it sends various types of information. These include, for example, service lists of persons who are required to receive documents in connection with Commission proceedings ² and mailing lists of persons who receive informational copies of various documents. Many of the entries on the various lists that the Commission maintains are obsolete or duplicative, resulting, among other problems, in extensive waste in mailing out unneeded or unwanted copies of documents. The eRegistration system will allow the Commission to compile a comprehensive, more accurate list of its customers.

² 18 CFR 385.2010(b)(2002).

III. Discussion

A. General

5. Electronic registration will serve as the gateway to a number of electronic services at the Commission that are designed to transmit documents electronically between the Commission and its customers. These services, some of which are already in use, will permit the electronic submission of information to the Commission, including tariffs, forms, and documents submitted in docketed proceedings. Electronic registration also will apply to services that the Commission will be instituting that will allow customers to sign up to receive information about or be notified of events in docketed proceedings. The registration system implemented pursuant to this rulemaking will enable customers to submit necessary information once, rather than having to register separately to use each system. A brief description of the services to which electronic registration will pertain is included in Section III. C.

6. Electronic registration will apply only to specified applications; it will not be required for all submissions to the Commission. For example, it will not be required for correspondence that does not relate to docketed proceedings from members of Congress or the general public. It will not be required for a customer searching for documents on the Federal Energy Regulatory Records and Information System (FERRIS). It will not apply to requests under the Freedom of Information Act.³ It also will not apply to certain correspondence in docketed proceedings that the Office of the Secretary finds to qualify for an exemption because the submissions are from members of the public who likely are one-time submitters.

³ 5 U.S.C. 552 (2001).

7. The registration process will be brief and simple. Customers will input a few lines of information, generally a name, address, phone number and fax number. They will then input the information that the system will use to identify them: An e-mail address a password and a password hint. There will be a paper registration process for customers submitting paper documents to the Commission as the result of a waiver of electronic filing requirements for good cause shown. Customers will be able to access and manipulate their own data, thus keeping it current to ensure reliable service. Separate rulemakings will address other FERC information systems.

B. The Registration Process

8. Customers wishing to transact business at the Commission through any of the electronic services described in section III. C. will register via the Internet at http://www.ferc.gov. It will be possible for multiple persons or entities to be associated with one another. Thus, for example, a company that is a participant in a proceeding at the Commission may be represented by one or more persons or entities, such as attorneys or law firms, so that Commission issuances will be distributed to all the persons or entities representing that company.

9. When a customer seeks to conduct an electronic transaction through the Commission's Web site, if that customer is not already registered, the customer will be automatically transferred to the eRegistration page. Alternately, the customer will be able to access the eRegistration page directly to register or to update registration information. The eRegistration page will contain data fields that must be filled in with specified identifying data.

10. Generally speaking, an individual customer—as opposed to an entity like a company or law firm—will receive a user ID, which will be the customer's e-mail address. All electronic services will also require a password selected by the user. For services requiring a higher level of security and authentication, further security requirements may be necessary as well. The exact nature of this security will be described at a later time, when filing of sensitive information becomes functional.

11. All customers also will receive a unique numeric identifier. This identifier may be used in identifying the customer in connection with electronic applications.

12. When an individual customer registers, that customer will, if appropriate, designate the entity—again, such as a company or law firm—with which that customer is associated. The first time that eRegistration information is entered on behalf of an entity, that entity will be assigned its own unique numeric identifier. Other identifying information, such as a Dun & Bradstreet number, may also be entered. If the entity has already been registered, the individual customer may select it from an index. If the individual is not aware that the entity has already been registered and tries to enter information about the entity, the system will alert the individual to the possibility that the entity is already registered and make an index available from which he or she may choose.

13. When an individual registers an entity with eRegistration, there will be an opportunity to list an additional contact for the entity—most likely another employee or official of the entity. This will ensure that the entity will receive necessary information should the individual who initially registers for the entity become unavailable. Customers will bear the responsibility of managing their own eRegistration information, just as a participant in a Commission proceeding is responsible for monitoring its affairs to ensure that the persons claiming to represent it are in fact authorized to do so.

14. Upon successful eRegistration, the customer will receive an e-mail containing the customer's user ID and numeric identifier, and any other identifying information that has been entered.

15. The process of associating an individual customer with multiple entities will not be a part of the eRegistration system, but instead will take place in the individual electronic services. For example, an attorney will be able to represent several different clients in multiple proceedings, but the attorney need not “register” on behalf of every client or in connection with every proceeding. Instead, the attorney will register once as an individual, if appropriate also designating a law firm as the entity with which the attorney is associated. When the attorney submits a document for filing in a particular proceeding, he or she will designate the appropriate client as part of the eFiling process. The attorney will receive service through the functions of the eService and eList services (described below), which will be addressed in a later rulemaking. Customers using eRegistration to represent other persons or entities are subject to Rule 2005,⁴ and thus will be regarded as representing that they have the authority to undertake such representation.

⁴ 18 CFR 385.2005(2002).

16. The Commission understands that some customers will lack the means for submitting and receiving documents electronically and will provide for waiver of the mandatory aspects of electronic submissions and distribution. This rulemaking includes a delegation of authority to the Secretary to grant waivers of the eRegistration requirement. It will be possible for a customer to submit documents in hard copy by applying for a waiver for good cause shown. Registration, however, will still be required and will be accomplished by a paper process. Like electronic customers, customers registering through the paper process will receive a unique numeric identifier. This identifier must appear on paper submissions; without it, submissions will be rejected. Waivers of electronic registration will be valid for one year. It then will be necessary for a customer to register electronically or apply for another waiver. Customers registering by paper will be notified approximately three months prior to the expiration of their registration.

17. In addition to the waiver provision, the Commission is exempting from the registration requirement certain situations where registration would not be practical for, or beneficial to, the customer. The Commission often receives letters and other communications from individual citizens who are not familiar with, and do not regularly participate in, Commission proceedings. When such communications pertain to a particular proceeding, they are accepted for filing in that proceeding, become part of the official record, and are considered by the Commission in making the ultimate decision in the case. Registration in such situations would be an unnecessary formality because the customer often is unlikely to participate further in Commission proceedings. In some such cases, however, the customer may have the capability to register electronically and thus might not qualify for a waiver. The rulemaking thus exempts such communications from the registration requirements.⁵

⁵ Customers found to be exempt from the eRegistration requirements will not be able to receive electronic issuances and notifications from the Commission or otherwise be included in electronic distribution lists, nor will they be able to intervene as they will not be able to employ eFiling. In other words, they will not have access to the FERC online services, which necessarily require individualized registration, including a specific e-mail address.

18. This rulemaking will become effective January 7, 2003. Electronic registration thus will not be required prior to that time. The eRegistration system will, however, become operational, and available for use on a voluntary basis in late August 2002. Customers should check the Commission's Web site at http://www.ferc.gov for information about when eRegistration will become operational. This period of voluntary use will give both the Commission and its customers the opportunity to observe the system's functions. The Commission strongly urges customers to register well in advance of the effective date so as to familiarize themselves with the system. In addition, the Commission invites informal comments and suggestions regarding the system prior to the effective date. Comments or suggestions may be sent to the Secretary, Federal Energy Regulatory Commission, 888 First Street, NE., Washington, DC 20426, or to ERegComments@FERC.gov. The Commission requests that informal comments and suggestions be submitted by October 1, 2002, so as to give Commission staff time to implement any needed changes before this rule takes effect.

C. Overview of Electronic Information Services

19. The following is a brief summary of the services for which electronic registration will be required:

20. eFiling. The Commission has instituted electronic filing of documents in its proceedings on a voluntary basis. Currently, many categories of documents may be submitted via the Internet, although some documents still may not.⁶ Some time prior to October 1, 2003, however, the Commission will extend electronic filing to all documents submitted in Commission proceedings and will require all participants in those proceedings to submit documents electronically. There will be a waiver for participants for whom electronic submissions are impractical.

⁶ See 18 CFR 385.2003(c)(2)(2002).

21. eForms. The Commission will establish an integrated interface for its customers to file structured data. The forms that will be filed electronically include, but may not be limited to, Forms 1, 2, 6 and 423. Customers filing such forms will be required to register electronically.

22. eReports. This system will provide an interface for customers submitting structured data in connection with Order No. 2001, issued by the Commission on April 25, 2002.⁷

⁷ See Revised Public Utility Filing Requirements, FERC Stats. & Regs. ¶ 31,127 (April 25, 2002).

23. eTariffs. This system will provide an interface for customers filing tariffs with the Commission.⁸

⁸ Id.

24. eDistribution. Electronic distribution refers to documents being distributed by the Commission, or with the Commission's assistance, as opposed to electronic filing, forms, reports and tariffs, all of which refer to documents being submitted to the Commission. There are several sub-categories of electronic distribution:

eService: Electronic service means the electronic distribution by the Commission of documents to participants in Commission proceedings, as required by 18 CFR 385.2010(b) (2001). After October 1, 2003, only electronic service will meet the Commission's legal service requirements under regulatory revisions that the Commission will implement prior to that time. The Commission will include a waiver provision for participants who show that it is impractical for them to receive service of documents electronically. With respect to legal service requirements among participants in Commission proceedings, the Commission's rules already allow participants to agree among themselves to serve documents electronically rather than serving paper copies.⁹

⁹ Id.

eList: The Commission will maintain a list of participants in each Commission proceeding that participants will use to serve documents upon one another as required by 18 CFR 385.2010(a) (2002). Electronic Registration will become a pre-requisite for addition to the Service List (eList) by the Secretary, sometime prior to October 1, 2003, although provision will be made for participants for whom sending and receiving electronic documents is impractical.

eNotification: The Commission currently distributes issuances in Commission proceedings to various interested persons who are not participants. Such recipients include state and federal elected officials, state commissions, and other state and federal resource agencies. The Commission will take steps to ensure that these persons continue to receive such information.

eSubscription: The Commission will establish a service that allows interested persons to subscribe to categories of documents published by FERC and receive e-mail stating when documents pertaining to subscribed-for categories are published. The first implementation of this service will permit customers to subscribe to individual FERC proceedings, i.e., dockets; access (FERRIS) online; and automatically receive documents published therein. Participation in this service is voluntary. A customer choosing to participate in eSubscription, however, will have to access the service through eRegistration. That customer will be required to supply eRegistration with an e-mail address and password, and may provide other registration information on a voluntary basis.

IV. Information Collection Statement

25. The Office of Management and Budget's (OMB's) regulations require that OMB approve certain information collection requirements imposed by agency rule.¹⁰ OMB regulations provide an exemption where a person is required to provide only facts that are necessary for identification.¹¹ This rulemaking requires only such information and thus OMB approval is not required.

¹⁰ 5 CFR Part 1320 (2002).

¹¹ 5 CFR 1320.3(h)(1).

V. Environmental Analysis

26. The Commission is required to prepare an Environmental Assessment or an Environmental Impact Statement for any action that may have a significant adverse effect on the human environment.¹² This Final Rule will not have such an effect. Part 380 of the Commission's regulations lists a number of situations in which an Environmental Analysis or Environmental Impact Statement will not be done. Included are exemptions for procedural, ministerial or internal administrative actions, and for information gathering, analysis and dissemination.¹³ This rulemaking is exempt under those provisions.

¹² Order No. 486, Regulations Implementing the National Environmental Policy Act, 52 FR 47897 (Dec. 17, 1987), FERC Stats. & Regs. Preambles 1986-1990 ¶ 30,783 (1987).

¹³ 18 CFR 380.4(a)(1) and (5) (2002).

VI. Regulatory Flexibility Act Certification

27. The Regulatory Flexibility Act of 1980 (RFA)¹⁴ generally requires a description and analysis of final rules that will have significant economic impact on a substantial number of small entities. The Commission finds that this rule will not have such an impact on small entities. The Commission anticipates that its customers will achieve savings from the elimination of paper documents. The large majority of the Commission's customers already employ the technology that will be necessary for compliance with this rulemaking. For customers for whom the use of such technology is impractical, registration by paper will be possible.

¹⁴ 5 U.S.C. 601-612 (2002).

VII. Document Availability

28. In addition to publishing the full text of this document in the Federal Register, the Commission provides all interested persons an opportunity to view and/or print the contents of this document via the Internet through FERC's Home Page (http://www.ferc.gov) and in FERC's Public Reference Room during normal business hours (8:30 a.m. to 5 p.m. Eastern time) at 888 First Street, NE., Room 2A, Washington, DC 20426.

29. From FERC's Home Page on the Internet, this information is available in FERRIS. The full text of this document is available on FERRIS in PDF and WordPerfect format for viewing, printing, and/or downloading. To access this document in FERRIS, type the docket number excluding the last three digits of this document in the docket number field.

30. User assistance is available for FERRIS and the FERC's Web site during normal business hours from our Help line at (202) 208-2222 or the Public Reference Room at (202) 208-1371 Press 0, TTY (202) 208-1659. E-Mail the Public Reference Room at public.referenceroom@ferc.gov.

VIII. Effective Date and Congressional Notification

31. This Final Rule will take effect on January 7, 2003. Pursuant to 5 U.S.C. 804(3)(C) (2002), agencies are not required to notify Congress of any Final Rule that concerns matters of “agency organization, procedure, or practice that does not substantially affect the rights or obligations of non-agency parties.” This rulemaking falls within that provision. Furthermore, 5 U.S.C. 804(3)(A) exempts rules that provide for registration and permit new or improved applications of technology from the Congressional review requirements. Provisions governing Congressional review of agency rulemaking,¹⁵ therefore do not apply.

¹⁵ 5 U.S.C. 801-808 (2002).

32. The Commission is issuing this as a final rule without a period for public comment. Under 5 U.S.C. 553(b) (2002), notice and comment procedures are unnecessary where a rulemaking concerns only agency procedure and practice, or where the agency finds that notice and comment is unnecessary. This rule concerns only matters of agency procedure and will not significantly affect regulated entities or the general public. In addition, the Commission is inviting informal comments about electronic registration during the voluntary period that will run from late August 2002, to January 7, 2003. Therefore, the Commission finds notice and comment procedures to be unnecessary.

List of Subjects

18 CFR Part 375

Authority delegations (Government agencies), Seals and insignia, Sunshine Act.

18 CFR Part 390

Administrative practice and procedure, Electronic filing, Reporting and recordkeeping requirements.

By the Commission.
Linwood A. Watson, Jr.,
Deputy Secretary.

In consideration of the foregoing, the Commission amends part 375 and adds part 390, Chapter I, Title 18, of the Code of Federal Regulations as follows:

PART 375—THE COMMISSION

1. In part 375, the authority citation continues to read as follows:

Authority: 5 U.S.C. 551-557; 15 U.S.C. 717-717w, 3301-3432; 16 U.S.C. 791-825r, 2601-2645; 42 U.S.C. 7101-7352.

2. In § 375.302, paragraph (x) is added to read as follows:

§ 375.302 Delegations to the Secretary.

* * * * *

(x) Issue instructions for electronic registration pursuant to, grant applications for waivers of the requirements of, and make determinations regarding exemptions from 18 CFR part 390.

3. Part 390 is added to read as follows:

PART 390—ELECTRONIC REGISTRATION

Sec.
390.1 Electronic registration.
390.2 Activities requiring registration.
390.3 Waiver applications.
390.4 Exemptions.

Authority: 5 U.S.C. 551-557; 15 U.S.C. 717-717z, 3301-3432; 16 U.S.C. 791a-825r, 2601-2645; 31 U.S.C. 9701; 42 U.S.C. 7101-7352; 49 U.S.C. 60502; 49 App. U.S.C. 1-85 (1988).

§ 390.1 Electronic registration.

Any person who wishes to engage in any of the activities listed in § 390.2 must register electronically through the Commission's web site, in compliance with instructions located on the Web site, at http://www.ferc.gov.

§ 390.2 Activities requiring registration.

(a) Electronic registration is a requirement for the following activities:

(1) Submission of all documents in proceedings governed by 18 CFR part 385;

(2) Submission of Forms 1, 2, 6 and 423 pursuant to 18 CFR 141.1, 141.61, 260.1, and 357.2.

(3) Submission of reports in compliance with Order No. 2001.

(4) Filing of tariffs pursuant to 18 CFR 385.205.

(5) Receipt of service pursuant to 18 CFR 385.2010(a) or (b).

(b) Any person who wishes to subscribe to the Commission's automated document delivery system may register electronically but is not required to do so.

§ 390.3 Waiver applications.

(a) A person may satisfy the requirement of § 390.1 by submitting a paper registration form to be prescribed by the Secretary, together with a written statement showing good cause why the person is unable to register electronically. The form and statement must be mailed to the Secretary, Federal Energy Regulatory Commission, 888 First Street, NE., Washington, DC 20426, or hand delivered to Room 1A at the same address.

(b) Persons who register using the paper form prescribed under paragraph (a) of this section will receive a unique numeric identifier that must appear on all paper submissions to the Commission. A submission that does not include the identifier will be rejected. Notification of such rejection will be sent to the submitter at the address indicated on the paper submission. A request for a waiver may be submitted simultaneously with a document submitted for filing. If the waiver is granted, the Secretary will add the assigned numeric identifier to the submitted document(s), but will not do so for subsequent submissions.

(c) A waiver under paragraph (a) of this section will be valid for one year from the date of issuance by the Secretary. The Secretary will send notice of the pending expiration to the registered person's address of record approximately three months prior to the expiration of the waiver. After the waiver expires, a person wishing to engage in any of the activities listed in § 390.2 must comply with § 390.1, or must apply for another waiver under paragraph (a) of this section.

§ 390.4 Exemptions.

In instances in which the Commission receives communications from persons who are not registered under this part that relate to docketed proceedings and in which it appears that registration under this part offers no value to the person submitting the communication, the Commission may accept the communication for filing without requiring the person to comply with § 390.1 or § 390.3.

[FR Doc. 02-20283 Filed 8-9-02; 8:45 am]

BILLING CODE 6717-01-P